DEPARTMENT OF TRANSPORTATION

Federal Motor Carrier Safety Administration

[Docket No. FMCSA-2018-0356]

Agency Information Collection Activities; Approval of a Renewal Information Collection Request: Transportation of Household Goods, Consumer Protection

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval of the “Transportation of Household Goods; Consumer Protection.” The information collected will be used to help regulate motor carriers transporting household goods (HHG) for individual shippers. FMCSA invites public comment on the ICR.

DATES: Please send your comments by August 28, 2019. OMB must receive your comments by this date to act quickly on the ICR.

ADDRESSES: All comments should reference Federal Docket Management System (FDMS) Docket Number FMCSA-2018-0356. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Monique Riddick, Lead Transportation Specialist, Office of Enforcement and Compliance, Commercial Enforcement and Investigations Division, Department of Transportation, Federal Motor Carrier Safety Administration, 6th Floor, West Building, 1200 New Jersey Avenue SE, Washington, DC 20590-0001. Telephone: 202-366-8045; Email Address: monique.riddick@dot.gov. Office hours are from 9 a.m. to 5 p.m., Monday through Friday, except Federal Holidays.

SUPPLEMENTARY INFORMATION:

Summary of Public Comments Received

On May 2, 2019, FMCSA published a notice in the Federal Register Docket Number: FMCSA-2018-0356 with a 60-day public comment period to announce information collection request for the Transportation Household Goods, Consumer Protection.

One commenter responded, the American Moving & Storage Association (AMSA). Three of AMSA's comments pertained to Household Goods Consumer Protection Working Group recommendations. The Working Group's report is currently under consideration in the Agency's concurrence process, therefore FMCSA has made no changes to the proposed renewal.

A fourth AMSA comment concerned weighing of shipments. AMSA indicated that weighing a shipment is required on non-binding estimates as outlined in 49 CFR part 375.507 and is used to determine the final charges for the load. However, if transit to the nearest weigh station is considered, this is a significant underestimation as scales in some parts of the country can be up to 30-40 miles away. More study should be required to determine the accurate time burden of this data collection. FMCSA does not have additional information to revise our estimate at this time.

Title: Transportation of Household Goods, Consumer Protection.

OMB Control Number: 2126-0025.

Type of Request: Renewal Collection.

Respondents: Household Goods Movers and Consumers.

Estimated Number of Respondents: 4,212 household goods movers.

Estimated Time per Response: Varies depending on task.

Expiration Date: August 31, 2019.

Frequency of Response: Once.

Estimated Total Annual Burden: 4,282,171 hours [Informational documents provided to prospective shippers at 24,692 hours + Written Cost estimates for prospective shippers at 3,5933,866 hours + Service orders, bills of lading at 621,621 hours + In-transit service notifications at 17,496 hours + Complaint and inquiry records including establishing records system at 24,496 hours = 4,282,171].

Background

The Motor Carrier Safety Improvement Act of 1999 (MCSIA) (Pub. L. 106-159, 113 Stat. 1748, Dec. 9, 1999) authorized the Secretary of Transportation (Secretary) to regulate household goods carriers engaged in interstate operations for individual shippers. In earlier legislation, Congress abolished the former Interstate Commerce Commission and transferred the Commission's jurisdiction over household goods transportation to the U.S. Department of Transportation (DOT) (ICC Termination Act of 1995, Pub. L. 104-88, 109 Stat. 803, Dec. 29 1995). Prior to FMCSA's establishment, the Secretary delegated this household goods jurisdiction to the Federal Highway Administration, FMCSA's predecessor organization within DOT.

The FMCSA has authority to regulate the overall commercial operations of the household goods industry under 49 U.S.C. 14104, “Household goods carrier operations.” This ICR includes the information collection requirements contained in title 49 CFR part 375, “Transportation of Household Goods in Interstate Commerce; Consumer Protection.” The information collected encompasses that which is generated, maintained, retained, disclosed, and provided to, or for, the agency under 49 CFR part 375.

Sections 4202 through 4216 of the Safe, Accountable, Flexible, Efficient Transportation Equity Act: A Legacy for Users (Pub. L. 109-59, 119 Stat. 1144, Aug. 10, 2005) (SAFETEA-LU) amended various provisions of existing law regarding household goods transportation. It specifically addressed: Definitions (section 4202); payment of rates (section 4203); registration requirements for household goods motor carriers (section 4204); carrier operations (section 4205); enforcement of regulations (section 4206); liability of carriers under receipts and bills of lading (section 4207); arbitration requirements (section 4208); civil penalties for brokers and unauthorized transportation (section 4209); penalties for holding goods hostage (section 4210); consumer handbook (section 4211); release of broker information (section 4212); working group for Federal-State relations (section 4213); consumer complaint information (section 4214); review of liability of carriers (section 4215); and application of State laws (section 4216). The FMCSA regulations that set forth Federal requirements for movers that provide interstate transportation of household goods are found in 49 CFR part 375, “Transportation of Household Goods; Consumer Protection.”

On July 16, 2012, FMCSA published a Direct Final Rule (DFR) titled, “Transportation of Household Goods in Interstate Commerce; Consumer Protection: Household Goods Motor Carrier Record Retention Requirements,” (77 FR 41699). The rule amended the regulations governing the period during which HHG motor carriers must retain documentation of an individual shipper's waiver of receipt of printed copies of consumer protection materials. This change harmonized the retention period with other document retention requirements applicable to HHG motor carriers. FMCSA also amended the regulations to clarify that a HHG motor carrier is not required to retain waiver documentation from any individual shippers for whom the carrier does not actually provide services.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: July 23, 2019.
Kelly Regal,
Associate Administrator for Office of Research and Information Technology.

[FR Doc. 2019-15957 Filed 7-26-19; 8:45 am]

BILLING CODE 4910-EX-P